DEPARTMENT OF TRANSPORTATION

Pipeline and Hazardous Materials Safety Administration

[Docket No. PHMSA-2007-27181 (Notice No. 07-5]

Information Collection Activities

AGENCY: Pipeline and Hazardous Materials Safety Administration (PHMSA) DOT.

ACTION: Notice and request for comments.

SUMMARY: In accordance with the Paperwork Reduction Act of 1995, PHMSA invites comments on an information collection under Office of Management and Budget (OMB) Control No. 2137-0586, pertaining to Hazardous Materials Public Sector Training and Planning Grants. PHMSA will request approval from OMB for a revision to the current information collection. The revision implements a statutory provision authorizing PHMSA to request information from states concerning fees related to the transportation of hazardous materials. In addition, we are revising the current information collection to include more detailed information from grantees to enable us to more accurately evaluate the effectiveness of the grant program in meeting emergency response planning and training needs.

DATES: Interested persons are invited to submit comments on or before September 4, 2007.

ADDRESSES: You may submit comments identified by the docket number (PHMSA-2007-27181) by any of the following methods:

• Federal eRulemaking Portal: http://www.regulations.gov. Follow the online instructions for submitting comments.

• Fax: 1-202-493-2251.

• Mail: Docket Management System, U.S. Department of Transportation, Docket Operations, M-30, West Building Ground Floor, Room W12-140, 1200 New Jersey Avenue, SE., Washington, DC 20590.

• Hand Delivery: Docket Operations, M-30, West Building Ground Floor, Room W12-140, 1200 New Jersey Avenue, SE., Washington, DC 20590, from 9 a.m. to 5 p.m., Monday through Friday, except Federal holidays.

Instructions: All submissions must include the agency name and docket number or Regulation Identification Number (RIN) for this notice. Internet users may access comments received by DOT at http://dms.dot.gov. Note that comments received will be posted without change to http://dms.dot.gov including any personal information provided.

Requests for a copy of the information collection should be directed to Deborah Boothe or T. Glenn Foster, U.S. Department of Transportation, Office of Hazardous Materials Standards (PHH-11), Pipeline and Hazardous Materials Safety Administration, 1200 New Jersey Avenue, SE., East Building, 2nd Floor, Washington, DC 20590-0001, Telephone (202) 366-8553.

FOR FURTHER INFORMATION CONTACT: Deborah Boothe or T. Glenn Foster, U.S. Department of Transportation, Office of Hazardous Materials Standards (PHH-11), Pipeline and Hazardous Materials Safety Administration, 1200 New Jersey Avenue, SE., East Building, 2nd Floor, Washington, DC 20590-0001, Telephone (202) 366-8553.

SUPPLEMENTARY INFORMATION: Section 1320.8 (d), Title 5, Code of Federal Regulations requires PHMSA provide interested members of the public and affected agencies an opportunity to comment on information collection and recordkeeping requests. This notice identifies an information collection PHMSA is submitting to OMB for revision under OMB Control Number 2137-0586. This collection is contained in 49 CFR Part 110, Hazardous Materials Public Sector Training and Planning Grants. We are proposing to revise the information collection to implement a statutory provision authorizing PHMSA to request information from states concerning fees related to the transportation of hazardous materials. In addition, we are proposing to revise the current information collection to include more detailed information from grantees to enable us to more accurately evaluate the effectiveness of the grant program in meeting emergency response planning and training needs.

State and Tribal Hazardous Materials Fees

Federal hazardous materials transportation law (Federal hazmat law; 49 U.S.C. 5101 et seq.) specifies that Hazardous Materials Emergency Preparedness (HMEP) grant funds are to be allocated based on the needs of states and Indian tribes for emergency response planning and training, considering a number of factors including whether the state or tribe imposes and collects a fee on the transportation of hazardous materials and whether the fee is used only to carry out a purpose related to the transportation of hazardous materials. 40 U.S.C. 5116(b)(4). Accordingly, the HMEP grant application procedures in Part 110 require applicants to submit a statement explaining whether the applicant assesses and collects fees for the transportation of hazardous materials and whether those fees are used solely to carry out purposes related to the transportation of hazardous materials.

Section 5125(f) of the Federal hazmat law permits a State, political subdivision of a state, or Indian tribe to impose a fee related to the transportation of hazardous materials only if the fee is fair and used for a purpose related to transporting hazardous materials, including enforcement and planning, developing, and maintaining a capability for emergency response. In accordance with § 5125, the Department of Transportation may require a state, political subdivision of a State, or Indian tribe to report on the fees it collects, including: (1) The basis on which the fee is levied; (2) the purposes for which the revenues from the fee are used; and (3) the total amount of annual revenues collected from the fee. Until now, we have not proposed asking States, political subdivisions, or Indian tribes to report this information.

In response to our February 26, 2007 notice [72 FR 8421] concerning the renewal of the OMB approval of the information collection required of applicants for HMEP grants, we received one comment from the Interested Parties for Hazardous Materials Transportation urging us to require grant applicants to report on the hazardous materials fees they collect in accordance with § 5125(f) of the Federal hazmat law. The commenter states that such information is important for both the agency and the regulated community to determine if States are in compliance with applicable provisions of the Federal hazmat law.

We agree that we should ask States and Indian tribes to provide more detailed information about hazardous materials fees they collect. This information will help us to evaluate more fully the emergency response funding needs of States and Indian tribes, thereby promoting more effective use of HMEP grant funds. In addition, information about fees will assist us in targeting our safety assistance team activities to specific regions. Comprehensive information on the assessment, collection, and use of State and tribal fees related to the transportation of hazardous materials is not available from other sources. Only the State or Indian tribe assessing the fee can be expected to accurately report on the purposes for which the fees are assessed and the total amount of fee revenue collected each year.

Therefore, we are revising the instructions for submitting an HMEP grant application to request that applicants expand on the currently required statement explaining whether the State or Indian tribe assesses and collects fees on the transportation of hazardous materials and whether such fees are used solely for purposes related to the transportation of hazardous materials. Beginning with the application for FY 2008 funds, applicants will be asked to respond to the following additional questions:

1. Does your State or tribe assess a fee or fees in connection with the transportation of hazardous materials?

2. If the answer to question 1 is “yes,”

a. What State agency administers the fee?

b. What is the amount of the fee and the basis on which the fee is assessed? Examples of the bases on which fees may be assessed include: (1) An annual fee for each company which transports hazardous materials within your state or tribal territory; (2) a fee for each truck or vehicle used to transport hazardous materials within your State or tribal territory; (3) a fee for certain commodities or quantities of hazardous materials transported in your State or tribal territory; or (4) a fee for each hazardous materials shipment transiting your state or tribal territory.

c. Is company size considered when assessing the fee? For instance, do companies meeting the Small Business Administration's (SBA) definition of a small business pay the same or lesser fee amount than companies that do not meet the SBA definition?

d. For what purpose(s) is the revenue from the fee used? For example, is the revenue used to support hazardous materials transportation enforcement programs? Is the fee used to support planning, developing, and maintaining an emergency response capability?

e. What is the total annual amount of the revenue collected for the last fiscal year or 12-month accounting period?

We do not anticipate that responding to these questions will significantly add to the total time required to complete the HMEP grant application. First, it is our understanding that many States and Indian tribes do not collect fees in connection with the transportation of hazardous materials. For those entities, there will be no additional time required to complete the application. For States and Indian tribes that do collect such fees, we estimate that responding to the question will add approximately two hours to the total time required to complete the HMEP application. Last year, 12 States and Indian tribes reported through their grant applications that they collect fees related to the transportation of hazardous materials. Therefore, for purposes of this information collection approval request, we estimate that 12 States and Indian tribes collect fees for which the additional information will be required.

HMEP Performance Reports

HMEP grant recipients are required to monitor the performance of the activities supported by the grant funds to ensure compliance with Federal requirements and achievement of performance goals. Recipients must submit performance reports covering the activities funded by the HMEP grants. The performance reports are to include a comparison of actual accomplishments to the goals and objectives established for the performance period and the reasons for not achieving those goals and objectives, if applicable.

For planning grants, activities eligible for funding include:

(1) Development, implementation, and improvement of emergency plans and exercises that test the plan;

(2) Assessments to determine hazardous materials flow patterns;

(3) Assessments of emergency response capabilities;

(4) Emergency response drills and exercises associated with emergency preparedness plans; and

(5) Technical staff to support the planning effort.

For training grants, eligible activities include:

(1) Assessments of the number of public sector employees who need training;

(2) Development and delivery of comprehensive training to public sector employees, including activities necessary to monitor this activity, such as examinations, critiques, and instructor evaluations;

(3) Management of the training program to achieve increased benefits, proficiency, and rapid deployment of emergency responders.

Grant recipients generally provide performance reports detailing how HMEP grants were expended and the state or Indian tribe's achievements related to its planning and training efforts. These performance reports are used to evaluate the effectiveness of the HMEP grant program in improving hazardous materials transportation emergency response programs nationwide. We note in this regard that the National Transportation Safety Board (NTSB) recently completed its investigation of a July 10, 2005 railroad accident involving a head-on collision of two freight trains in Anding, Mississippi. As a result of its investigation, the NTSB issued several recommendations concerning emergency response communication and coordination. The NTSB specifically recommended that PHMSA require and verify that states and their communities receiving funds through the HMEP grant program conduct training exercises and drills with the joint participation of railroads and other transporters of hazardous materials as a means to evaluate state, regional, and local emergency response plans. We are considering how to address the NTSB recommendation; in the meantime, we strongly encourage HMEP grant recipients to conduct such exercises and drills.

To increase the transparency of the programs funded by HMEP grants and to enable us to more accurately evaluate the effectiveness of the HMEP program in meeting emergency response planning and training needs, beginning in 2008, we are proposing to ask HMEP grant recipients to report the following information in their performance reports:

Planning Grants

1. Did you complete or update assessments of commodity flow patterns in your jurisdiction? If so, how many and what were the results of those assessments? What was the amount of planning dollars devoted to this effort? What percentage of total planning dollars does this represent?

2. Did you complete or update assessments of the emergency response capabilities in your jurisdiction? What factors did you consider to complete such assessments? How many assessments were completed and what were the results of those assessments? What was the amount of HMEP planning grant funds devoted to this effort? What percentage of total HMEP planning grant funds does this represent?

3. Did you develop or improve emergency plans for your jurisdiction? If so, how many plans were either developed or updated? Briefly describe the outcome of this effort. What was the amount of HMEP planning grant funds devoted to this effort? What percentage of total HMEP planning grant funds does this represent?

4. Did you conduct emergency response drills or exercises in support of your emergency plan? How many exercises or drills did you conduct? Briefly describe the drill or exercise (tabletop, computer simulation, real-world simulation, or other drill or exercise), the number and types of participants, including shipper or carrier participants, and lessons learned. What was the amount of HMEP planning grant funds devoted to this effort? What percentage of total HMEP planning grant funds does this represent?

5. Did you use HMEP planning grant funds to provide technical staff in support of your emergency response planning program? If so, what was the amount of HMEP planning grant funds devoted to this effort? What percentage of total HMEP planning grant funds does this represent?

6. How many Local Emergency Planning Committees (LEPCs) are located in your jurisdiction? How many LEPCs were assisted using HMEP funds? What was the amount of HMEP planning grant funds devoted to such assistance? What percentage of total HMEP planning grant funds does this represent?

Training Grants

1. Did you complete an assessment of the training needs of the emergency response personnel in your jurisdiction? What factors did you consider to complete the assessment? What was the result of that assessment? What was the amount of HMEP training grant funds devoted to this effort? What percentage of total HMEP training grants funds does this represent?

2. Provide details concerning the number of individuals trained in whole or in part using HMEP training grant funds. You should include separate indications for the numbers of fire, police, emergency medical services (EMS) or other personnel who were trained and the type of training provided based on the categories listed in standards published by the Occupational Safety and Health Administration at 29 CFR 1910.120 pertaining to emergency response training. (Note that “other” personnel include public works employees, accident clean-up crews, and liaison and support officers. Note also that if HMEP training grant funds were used in any way to support the training, such as for books or equipment, you should show that the training was partially funded by HMEP training grant funds.) What was the amount of training dollars devoted to this effort? What percentage of total training dollars does this represent?

3. Did you incur expenses associated with training and activities necessary to monitor such training, including, for example, examinations, critiques, and instructor evaluations? What was the amount of HMEP training grant funds devoted to this activity? What percentage of total HMEP training grant funds does this represent?

4. Did you provide incident command systems training? If so, provide separate indications for the numbers of fire, policy, EMS, or other personnel who were trained. What was the amount of HMEP training grant funds devoted to this effort? What percentage of total HMEP training grant funds does this represent?

5. Did you develop new training using HMEP training grant funds in whole or in part, such as training in handling specific types of incidents or specific types of materials? If so, briefly describe the new programs. Was the program qualified using the HMEP Curriculum Guidelines process? What was the amount of HMEP training grant funds devoted to this effort? What percentage of total HMEP training grant funds does this represent?

6. Did you use HMEP training grant funds to provide staff to manage your training program to increase benefits, proficiency, and rapid deployment of emergency responders? If so, what was the amount of HMEP training grant funds devoted to this effort? What percentage of total HMEP training grant funds does this represent?

7. Do you have a system in place for measuring the effectiveness of emergency response to hazardous materials incidents in your jurisdiction? Briefly describe the criteria you use (total response time, total time at an accident scene, communication among different agencies or jurisdictions, or other criteria). How many State and local response teams are located in your jurisdiction? What is the estimated coverage of these teams (e.g., the percent of state jurisdictions covered)?

Overall Program Evaluation

1. Using a scale of 1-5 (with 5 being excellent and 1 being poor), how well has the HMEP grants program met your need for preparing hazmat emergency responders?

2. Using a scale of 1-5 (with 5 being excellent and 1 being poor), how well do you think the HMEP grants program will meet your future needs?

3. What areas of the HMEP grants program would you recommend for enhancement?

We do not anticipate that responding to these questions will add significantly to the total time required to complete performance reports. HMEP grant recipients are required to submit performance reports, most of which should include some or all of the information we are requesting. We estimate that providing the specific information requested will add approximately three hours to the total time required for each grant recipient to complete its performance reports.

The questions listed above are intended to ensure that performance reports focus on results and include quantitative data on the planning and training programs funded by the HMEP grants. This data will enable us to more accurately assess the planning and training activities conducted by grant recipients and, thus, to evaluate the overall effectiveness of the HMEP program in improving overall hazardous materials transportation emergency preparedness and response. The data and information requested is only available from the states and Indian tribes participating in the HMEP grants program.

The total revised information collection budget for the HMEP grants program follows:

Title: Hazardous Materials Public Sector Training and Planning Grants.

OMB Control Number: 2137-0586.

Type of Request: Revision of a currently approved information collection.

Abstract: Part 110 of 49 CFR sets forth the procedures for reimbursable grants for public sector planning and training in support of the emergency planning and training efforts of states, Indian tribes and local communities to manage hazardous materials emergencies, particularly those involving transportation. Sections in this part address information collection and recordkeeping with regard to applying for grants, monitoring expenditures, and reporting and requesting modifications.

Affected Public: State and local governments, Indian tribes.

Recordkeeping:

Estimated Number of Respondents: 66.

Estimated Number of Responses: 66.

Estimated Annual Burden Hours: 4,302.

Frequency of collection: On occasion.

Issued in Washington, DC on June 29, 2007.
Edward T. Mazzullo,
Director, Office of Hazardous Materials Standards.

[FR Doc. E7-13007 Filed 7-3-07; 8:45 am]

BILLING CODE 4910-60-P